DEPARTMENT OF AGRICULTURE

Forest Service

Colville Resource Advisory Committee (RAC)

AGENCY: Forest Service, USDA.

ACTION: Notice of meeting.

SUMMARY: The Colville Resource Advisory Committee will meet on Thursday, September 19, 2002 at the Colville National Forest Headquarters at 765 S. Main, Colville, Washington. The meeting will begin at 9 a.m. and conclude at 12 noon. Agenda items include: (1) Review and recommend Title II Projects for Fiscal Year 2003 to be submitted to the forest designated official and (2) Public Forum.

FOR FURTHER INFORMATION CONTACT: Direct questions regarding this meeting to designated federal official Nora Rasure or Cynthia Reichelt, Public Affairs Officer, Colville National Forest, 765 S. Main, Colville, Washington 99114: (509) 684-7000.

Dated: September 4, 2002.
Nora B. Rasure,
Forest Supervisor.

[FR Doc. 02-23054 Filed 9-10-02; 8:45 am]

BILLING CODE 3410-11-M